DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 08N146B, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on February 1, 2016, through February 29, 2016. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: March 28, 2016.
James Macrae,
Acting Administrator.

List of Petitions Filed

1. Tessa Skrypek on behalf of D. S., Chippewa Falls, Wisconsin, Court of Federal Claims No: 16-0146V

2. Brandie Sanders, Cypress, Texas, Court of Federal Claims No: 16-0147V

3. Taylor K. Frady on behalf of A. F., Deceased, Piermont, New York, Court of Federal Claims No: 16-0148V

4. Robert Kern, Lower Gwynedd, Pennsylvania, Court of Federal Claims No: 16-0150V

5. Katherine R. Hime, South Bend, Indiana, Court of Federal Claims No: 16-0151V

6. Emma Hicks, Madison, Wisconsin, Court of Federal Claims No: 16-0153V

7. Christina Garber, Honolulu, Hawaii, Court of Federal Claims No: 16-0154V

8. Joseph T. Renfroe, Hiram, Georgia, Court of Federal Claims No: 16-0156V

9. Hannah Mackie, Chicago, Illinois, Court of Federal Claims No: 16-0157V

10. Laura McClary, Sacramento, California, Court of Federal Claims No: 16-0158V

11. Richard Watkins, Arlington, Texas, Court of Federal Claims No: 16-0159V

12. Merrill D. Woods, Grandview, Missouri, Court of Federal Claims No: 16-0160V

13. Debra Byrd, Allston, Massachusetts, Court of Federal Claims No: 16-0162V

14. Tracy Conley, Dublin, Ohio, Court of Federal Claims No: 16-0163V

15. Donna Bartholomew, Walnut Creek, California, Court of Federal Claims No: 16-0164V

16. Anna Johnson, Indianapolis, Indiana, Court of Federal Claims No: 16-0165V

17. John D. Buser, Wyomissing, Pennsylvania, Court of Federal Claims No: 16-0166V

18. Adam Gonzalez and Melissa Lopez on behalf of L. G., Wheat Ridge, Colorado, Court of Federal Claims No: 16-0167V

19. Annette Eberhart, Rancho Mirage, California, Court of Federal Claims No: 16-0169V

20. Linda Kimbrough on behalf of G. A., Vienna, Virginia, Court of Federal Claims No: 16-0170V

21. Phuong Dinh on behalf of C. N., Vienna, Virginia, Court of Federal Claims No: 16-0171V

22. Luis Lao, Orlando, Florida, Court of Federal Claims No: 16-0172V

23. Tarro Dussault, Redding, California, Court of Federal Claims No: 16-0173V

24. Roger M. Steck, North Tonawanda, New York, Court of Federal Claims No: 16-0177V

25. Kathleen Theobald, Vallejo, California, Court of Federal Claims No: 16-0178V

26. Alison Benincasa, Warrington, Pennsylvania, Court of Federal Claims No: 16-0179V

27. Joseph Barcello, Stamford, Connecticut, Court of Federal Claims No: 16-0180V

28. Alison Clark, Radnor, Pennsylvania, Court of Federal Claims No: 16-0181V

29. Christie Kirby, Cheyenne, Wyoming, Court of Federal Claims No: 16-0185V

30. Tyrone Barr, Salem, New Jersey, Court of Federal Claims No: 16-0187V

31. Susan Keller, Madison, Connecticut, Court of Federal Claims No: 16-0188V

32. Rose McAlister, Austin, Texas, Court of Federal Claims No: 16-0189V

33. Kathryn Stacy, Milwaukee, Wisconsin, Court of Federal Claims No: 16-0190V

34. Saurabh Agarwal and Mukta Agarwal on behalf of R. A., Algonquin, Illinois, Court of Federal Claims No: 16-0191V

35. Robert Whaley, Osceola, Wisconsin, Court of Federal Claims No: 16-0192V

36. Melissa Franklin, Boston, Massachusetts, Court of Federal Claims No: 16-0193V

37. Jay P. Bhattacharyya, Vienna, Virginia, Court of Federal Claims No: 16-0195V

38. Angelia R. Andrews, Mountain View, Missouri, Court of Federal Claims No: 16-0196V

39. Tina Marie Copenhagen, Houston, Texas, Court of Federal Claims No: 16-0198V

40. Lu Ann Kendrick, Chiefland, Florida, Court of Federal Claims No: 16-0202V

41. Kyara Galindo, Austin, Texas, Court of Federal Claims No: 16-0203V

42. Daniel Mulvihill, Dallas, Texas, Court of Federal Claims No: 16-0207V

43. Talia Service, Arden, North Carolina, Court of Federal Claims No: 16-0208V

44. Michael A. Halcrow, Seattle, Washington, Court of Federal Claims No: 16-0212V

45. Danny Stotler and Nicole Tracy on behalf of R. S., Salida, Colorado, Court of Federal Claims No: 16-0213V

46. Marni Shapin, Baltimore, Maryland, Court of Federal Claims No: 16-0214V

47. Richard Warner, Saratoga Springs, Florida, Court of Federal Claims No: 16-0216V

48. Sandra Retzlaff, Bloomington, Indiana, Court of Federal Claims No: 16-0217V

49. Evonne Risdall, Santa Barbara, California, Court of Federal Claims No: 16-0218V

50. Allene Larson, Dallas, Texas, Court of Federal Claims No: 16-0219V

51. Consuelo Lory, Maple Shade Township, New Jersey, Court of Federal Claims No: 16-0220V

52. Lindsey Desrosiers, East Greenwich, Rhode Island, Court of Federal Claims No: 16-0224V

53. Elizabeth Schandel, Farmingville, New York, Court of Federal Claims No: 16-0225V

54. Gary Friedland, Teaneck, New Jersey, Court of Federal Claims No: 16-0228V

55. Lana Cooper-Jones, Beverly Hills, California, Court of Federal Claims No: 16-0229V

56. Melissa Wagner, Baraboo, Wisconsin, Court of Federal Claims No: 16-0232V

57. Janet Alles, Portage, Indiana, Court of Federal Claims No: 16-0233V

58. Meghan Lee Stapleton, Tulsa, Oklahoma, Court of Federal Claims No: 16-0234V

59. Mary Sue Allen on behalf of Ronald M. Allen, Washington, District of Columbia, Court of Federal Claims No: 16-0239V

60. Johnnie Evans, Jr. on behalf of Johnnie Evans, Sr., Deceased, Boston, Massachusetts, Court of Federal Claims No: 16-0240V

61. Omary Rocha on behalf of Nestor Rocha, Linwood, New Jersey, Court of Federal Claims No: 16-0241V

62. Jimmon Watson, Alexandria, Virginia, Court of Federal Claims No: 16-0242V

63. Melissa L. Will, Salem, Virginia, Court of Federal Claims No: 16-0244V

64. Oliva Guzman, Eugene, Oregon, Court of Federal Claims No: 16-0246V

65. Scott Kashkin, Chicago, Illinois, Court of Federal Claims No: 16-0247V

66. Carolyn Lanier, Sandusky, Ohio, Court of Federal Claims No: 16-0250V

67. Elizabeth Neeley, Madison, Wisconsin, Court of Federal Claims No: 16-0251V

68. Stephanie Rosenthal, La Jolla, California, Court of Federal Claims No: 16-0253V

69. Kelly Carter, Jacksonville, Florida, Court of Federal Claims No: 16-0254V

70. Cheryl Bourgerie, Simi Valley, California, Court of Federal Claims No: 16-0255V

71. Maureen Li, Arcadia, California, Court of Federal Claims No: 16-0256V

72. Linda Simmonds, Belfair, Washington, Court of Federal Claims No: 16-0258V

73. Gregg Riley, Houston, Texas, Court of Federal Claims No: 16-0262V

74. Alicia Leann Bohn on behalf of B. G., deceased, Piermont, New York, Court of Federal Claims No: 16-0265V

75. Armando Tinoco, Denver, Colorado, Court of Federal Claims No: 16-0266V

76. Laurel Cutter, Beverly Hills, California, Court of Federal Claims No: 16-0267V

77. Duane Morgan, Dresher, Pennsylvania, Court of Federal Claims No: 16-0269V

78. James Kerrigan on behalf of A. K., Linwood, New Jersey, Court of Federal Claims No: 16-0270V

79. Susan Pless, Concord, North Carolina, Court of Federal Claims No: 16-0271V

80. Edward E. Burchett, Jr., Seattle, Washington, Court of Federal Claims No: 16-0274V

81. Christine Toddish, Willowbrook, Illinois, Court of Federal Claims No: 16-0275V

82. Mark V. Davis, Washington, District of Columbia, Court of Federal Claims No: 16-0276V

83. Rosemarie Ward, Sicklerville, New Jersey, Court of Federal Claims No: 16-0278V

84. Patricia Villano, Boston, Massachusetts, Court of Federal Claims No: 16-0279V

85. Velma Finn, Boston, Massachusetts, Court of Federal Claims No: 16-0280V

86. Teresa Bollinger, Boston, Massachusetts, Court of Federal Claims No: 16-0281V

87. Gretchen Kokotovich, Dresher, Pennsylvania, Court of Federal Claims No: 16-0282V

88. Heather Moreau on behalf of Douglas C. Riemer, Milwaukee, Wisconsin, Court of Federal Claims No: 16-0283V

89. Deborah Bynum on behalf of C. J., Phoenix, Arizona, Court of Federal Claims No: 16-0284V

90. Anibal Pinto, Dresher, Pennsylvania, Court of Federal Claims No: 16-0285V

91. Emily Claire Fontenot Quibodeaux on behalf of R. H. Q., Birmingham, Alabama, Court of Federal Claims No: 16-0286V

[FR Doc. 2016-07881 Filed 4-5-16; 8:45 am]

BILLING CODE 4165-15-P